DEPARTMENT OF COMMERCE

Foreign-Trade Zones Board

[B-03-2017]

Foreign-Trade Zone (FTZ) 122—Corpus Christi, Texas, Authorization of Production Activity, Superior Weighting Products LLC (Barite/Calcium Carbonate/Bentonite), Corpus Christi, Texas

On January 3, 2017, the Port of Corpus Christi, grantee of FTZ 122, submitted a notification of proposed production activity to the FTZ Board on behalf of Superior Weighting Products LLC, within FTZ 122, in Corpus Christi, Texas.

The notification was processed in accordance with the regulations of the FTZ Board (15 CFR part 400), including notice in the Federal Register inviting public comment (82 FR 4286, January 13, 2017). On May 3, 2017, the applicant was notified of the FTZ Board's decision that no further review of the activity is warranted at this time. The production activity described in the notification was authorized, subject to the FTZ Act and the FTZ Board's regulations, including Section 400.14.

Dated: June 8, 2017.
Andrew McGilvray,
Executive Secretary.

[FR Doc. 2017-12410 Filed 6-14-17; 8:45 am]

BILLING CODE 3510-DS-P